DEPARTMENT OF THE INTERIOR

Bureau of Land Management

[NV-056-1430-ES; N-66384]

Notice of Realty Action: Direct Sale

AGENCY: Bureau of Land Management.

ACTION: Direct sale of reversionary interest—Recreation or Public Purposes Patent, Number 27-72-0082

SUMMARY: The following described public land in Las Vegas, Clark County, Nevada, was patented to Clark County on June 7, 1972 under the Recreation or Public Purpose Act for a public park. Clark County requests the purchase of the reversionary interest. The land has been examined and found suitable for sale at fair market value under the provisions of the Federal Land Policy and Management Act (43 CFR 2711.3-3).

Mount Diablo Meridian, Nevada

T. 21 S., R. 62 E., M.D.M.

Sec. 25, S½N½NE¼SW¼SW¼, S½NE¼SW¼SW¼, SE¼SW¼SW¼, S½N½NW¼SE¼SW¼, S½NW¼SE¼SW¼, SW¼NE¼SE¼SW¼, S½SE¼NE¼SE¼SW¼, S½SE¼SW¼, S½N½SW¼SE¼, S½SW¼SE¼.

Containing 78.75 acres, more or less, located near the Wetlands Park. The land is not required for any federal purpose. The direct sale is consistent with current Bureau planning for this area and would be in the public interest. The patent will be subject to the provisions of the Federal Land Policy and Management Act and applicable regulations of the Secretary of the Interior, and the land will continue to be subject to the following reservations to the United States:

1. A right-of-way thereon for ditches or canals constructed by the authority of the United States, Act of August 30, 1890 (26 Stat. 391, 43 U.S.C. 945).

2. All the mineral deposits in the lands so patented, and to it, or persons authorized by it, the right to prospect, mine, and remove such deposits from the same under applicable law; and will be subject to: Easements in accordance with the Clark County Transportation Plan.

Detailed information concerning this action is available for review at the office of the Bureau of Land Management, Las Vegas Field Office, 4765 Vegas Drive, Las Vegas, Nevada.

The lands have been segregated from all forms of appropriation under the Southern Nevada Public Lands Management Act (P.L. 105-263).

For a period of 45 days from the date of publication of this notice in the Federal Register, interested parties may submit comments regarding the proposed direct sale to the Las Vegas Field Manager, Las Vegas Field Office, 4765 Vegas Drive, Las Vegas, Nevada 89108.

Classification Comments: Interested parties may submit comments involving the suitability of the land for a direct sale. Comments on the classification are restricted to whether the land is physically suited for the proposal, whether the use will maximize the future use or uses of the land, whether the use is consistent with local planning and zoning, or if the use is consistent with State and Federal programs.

Application Comments: Interested parties may submit comments regarding the application as to whether the BLM followed proper administrative procedures in reaching the decision or any other factor not directly related to the suitability of the land for a direct sale. Any adverse comments will be reviewed by the State Director.

In the absence of any adverse comments, the classification of the land described in this Notice will become effective 60 days from the date of publication in the Federal Register. The lands will not be offered for conveyance until after the classification becomes effective.

Dated: June 8, 2000.
Rex Wells,
Assistant Field Manager, Division of Lands, Las Vegas, NV.

[FR Doc. 00-15254 Filed 6-15-00; 8:45 am]

BILLING CODE 4510-HC-P